NUCLEAR REGULATORY COMMISSION

10 CFR Part 72

[NRC-2009-0162]

RIN 3150-AI62

List of Approved Spent Fuel Storage Casks: Standardized NUHOMS® System Revision 10, Confirmation of Effective Date

AGENCY: Nuclear Regulatory Commission.

ACTION: Direct final rule: Confirmation of effective date.

SUMMARY: The Nuclear Regulatory Commission (NRC) is confirming the effective date of August 24, 2009, for the direct final rule that was published in the Federal Register on June 10, 2009 (74 FR 27423). This direct final rule amended the NRC's spent fuel storage regulations at 10 CFR 72.214 to revise the Standardized NUHOMS® System listing to include Amendment Number 10 to Certificate of Compliance (CoC) Number 1004.

DATES: Effective Date: The effective date of August 24, 2009, is confirmed for this direct final rule.

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219,e-mail Jayne.McCausland@nrc.gov.

SUPPLEMENTARY INFORMATION: On June 10, 2009 (74 FR 27423), the NRC published a direct final rule amending its regulations at 10 CFR 72.214 to include Amendment No. 10 to CoC Number 1004. Amendment No. 10 modifies the CoC to add two new dry shielded canisters (DSCs) designated the NUHOMS® -61BTH DSC and the NUHOMS® -32PTH1 DSC, add an alternate high-seismic option of the horizontal storage module (HSM) for storing the 32PTH1 DSC, allow storage of Westinghouse 15x15 partial length shield assemblies in the NUHOMS® -24PTH DSC, allow storage of control components in the NUHOMS® -32PT DSC, and add a new Technical Specification, which applies to Independent Spent Fuel Storage Installation sites located in a coastal marine environment, that any load bearing carbon steel component which is part of the HSM must contain at least 0.20 percent copper as an alloy addition. In the direct final rule, NRC stated that if no significant adverse comments were received, the direct final rule would become final on August 24, 2009. The NRC did not receive any comments on the direct final rule. Therefore, this rule will become effective as scheduled.

Dated at Rockville, Maryland, this 5th day of August 2009.
For the Nuclear Regulatory Commission.
Michael T. Lesar,
Chief, Rulemaking, Directives and Editing Branch, Division of Administrative Services, Office of Administration.

[FR Doc. E9-19214 Filed 8-10-09; 8:45 am]

BILLING CODE 7590-01-P